DEPARTMENT OF COMMERCE

Economic Development Administration

Agency Information Collection Activities; Submission to the Office of Management and Budget (OMB) for Review and Approval; Comment Request; Travel, Tourism, and Outdoor Recreation Data Collection Instrument

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 5, 2022 (87 FR 39806) during a 60-day comment period. This notice allows for an additional 30 days for public comments.

Agency: Economic Development Administration (EDA), Commerce.

Title: Travel, Tourism, and Outdoor Recreation Data Collection Instrument.

OMB Control Number: New information collection.

Form Number(s): None.

Type of Request: Regular submission.

Estimated Number of Respondents and Frequency: 332 award recipients will respond to the electronic survey. Of these, 30 award recipients will also participate in a phone interview. This will be a one-time survey and interview.

Estimated Average Hours per Response: Two hours for the electronic survey and 0.75 hours for each phone interview.

Estimated Burden Hours: 664 hours for the electronic survey and 22.5 hours for the phone interviews.

Needs and Uses: To effectively administer and monitor its economic development assistance programs, EDA collects certain information from applications for, and recipients of EDA investment assistance. The purpose of this notice is to seek comments from the public and other Federal agencies on a request for a new information collection for recipients of awards under the EDA American Rescue Plan Act (ARPA) Travel, Tourism and Outdoor Recreation. This is aligned with ensuring that Federal travel, tourism and outdoor recreation investments are evidence-based and data-driven, and accountable to participants and the public.

This survey will collect baseline data from awardees that will lay the foundation for a future evaluation of EDA's investments in travel, tourism, and outdoor recreation. The survey questions will fall into two categories: project activities and corresponding specific metrics. The categories of project activities include the following:

—Planning and Assessment Activities

—Expanding the Tourism and Outdoor Recreation Economy

—Increasing Quality of Visitation

—Stakeholder Outreach

—Developing New Products

—Marketing

—Workforce Training, Skills Training and Certifications

—Equity Focused Activities

Affected Public: Recipients of ARPA Travel, Tourism and Outdoor Recreation awards: These include (i) District Organization of an EDA-designated Economic Development District (EDD); (ii) Indian Tribe or a consortium of Indian Tribes; (iii) State, county, city, or other political subdivision of a State, including a special purpose unit of a State or local government engaged in economic or infrastructure development activities, or a consortium of political subdivisions; (iv) institution of higher education or a consortium of institutions of higher education; or (v) public or private non-profit organization or association acting in cooperation with officials of a general purpose political subdivision of a State.

Respondent's Obligation: Mandatory.

Legal Authority: The Public Works and Economic Development Act of 1965 (42 U.S.C. 3121 et seq.).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection.

Sheleen Dumas,
Department PRA Clearance Officer, Office of the Under Secretary for Economic Affairs, Commerce Department.

[FR Doc. 2023-12768 Filed 6-14-23; 8:45 am]

BILLING CODE 3510-34-P